FEDERAL COMMUNICATIONS COMMISSION

[CG Docket No. 18-272; DA 19-179]

Termination of Dormant Proceedings

AGENCY: Federal Communications Commission.

ACTION: Notice of availability.

SUMMARY: In this document, the Consumer and Governmental Affairs Bureau announces the availability of the FCC order terminating, as dormant, certain docketed Commission proceedings.

DATES: The dockets are terminated as of April 9, 2019.

FOR FURTHER INFORMATION CONTACT: Daniel Margolis, Consumer and Governmental Affairs Bureau at (202) 418-1377 or by email at daniel.margolis@fcc.gov.

SUPPLEMENTARY INFORMATION: The Commission's Order, Termination of Certain Proceedings as Dormant, document DA 19-179, adopted on March 13, 2019, and released on March 13, 2019, is available in CG Docket No. 18-272. The full text of document DA 19-179, the spreadsheet associated with document DA 19-179 listing the proceedings terminated as dormant, and copies of any documents filed in this matter will be available for public inspection and copying via ECFS, and during regular business hours at the FCC Reference Information Center, Portals II, 445 12th Street SW, Room CY-A257, Washington, DC 20554. The full text of these documents and any documents filed in this matter may also be found by searching ECFS at: https://www.fcc.gov/ecfs/. To request materials in accessible formats for people with disabilities (Braille, large print, electronic files, audio format), send an email to fcc504@fcc.gov or call the Consumer and Governmental Affairs Bureau at (202) 418-0530 (voice) or (202) 418-0432 (TTY).

Daniel Margolis,
Acting Legal Advisor, Consumer and Governmental Affairs Bureau.

[FR Doc. 2019-06964 Filed 4-8-19; 8:45 am]

BILLING CODE 6712-01-P